DEPARTMENT OF ENERGY

Federal Energy Regulatory Commission

[Project No. 3211-010]

Power Authority of New York; Notice of Settlement Agreement and Soliciting Comments

Take notice that the following settlement agreement has been filed with the Commission and is available for public inspection.

a. Type of Application: Settlement Agreement.

b. Project No.: 3211-010.

c. Date filed: July 25, 2022.

d. Applicant: Power Authority of the State of New York (NYPA).

e. Name of Project: Hinckley (Gregory B. Jarvis) Hydroelectric Project (Gregory B. Jarvis Project).

f. Location: The existing project is located on West Canada Creek, a tributary to the Mohawk River, at the Hinkley Reservoir dam, approximately 0.5 mile upstream of the Hamlet of Hinckley in the counties of Oneida and Herkimer, New York. The project does not affect federal land.

g. Filed Pursuant to: Rule 602 of the Commission's Rules of Practice and Procedure, 18 CFR 385.602.

h. Applicant Contact: Robert Daly, New York Power Authority, 123 Main Street, White Plains, New York 10601; (914) 681-6564, robert.daly@nypa.gov.

i. FERC Contact: Emily Carter, (202) 502-6512, emily.carter@ferc.gov.

j. Deadline for filing comments: August 22, 2022. Reply comments due September 1, 2022.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3211-010.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. NYPA filed the Settlement Agreement on behalf of itself, the U.S. Fish and Wildlife Service, and the New York State Department of Environmental Conservation. The purpose of the Settlement Agreement is to resolve, among the signatories, issues related to operational, wildlife, water quality, and recreation resources associated with issuance of a new license and water quality certification for the project. Specifically, the Settlement Agreement includes proposed protection, mitigation, and enhancements measures to address freshwater mussel protection, minimum flow, streamflow and water level monitoring, water quality management, recreation facility enhancements, invasive species management, and bald eagle protection. NYPA states that the terms of the Settlement Agreement are an integrated and individual set of measures intended to address and balance non-power and power values relating to the project and requests that the Commission approve the Settlement Agreement and incorporate the proposed measures set forth in section 3 into any new license issued.

l. A copy of the settlement agreement may be viewed on the Commission's website at http://www.ferc.gov using the “eLibrary” link. Enter the docket number, excluding the last three digits, in the docket number field to access the document (i.e., P-3211). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

Dated: August 1, 2022.
Kimberly D. Bose,
Secretary.

[FR Doc. 2022-16839 Filed 8-4-22; 8:45 am]

BILLING CODE 6717-01-P